NUCLEAR REGULATORY COMMISSION

Request To Amend A License To Import; Radioactive Waste

Pursuant to 10 CFR 110.70 (b) “Public Notice of Receipt of an Application,” please take notice that the Nuclear Regulatory Commission (NRC) has received the following request to amend an import license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 Fed. Reg 49139 (Aug. 28, 2007). Information about filing electronically is available on the NRC's public Web site at http://www.nrc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications

The information concerning this import license amendment application follows.

NRC Import License Amendment Application
[Description of material]
Name of applicant; date of application; date received; application no.; docket no. | Material type | Total quantity | End use | Country from
Diversified Scientific Services, Inc.; January 10, 2013; January 16, 2013; IW012/05; 11005322 | Class A radioactive mixed waste consisting of solids, semi-solids, and liquids contaminated with various materials including tritium, C-14, mixed fission product radionuclides and other contaminants, including on shipping containers | Up to 378,000 kilograms Total Activity Level: Up to 278 TBq (7,500 Ci) | Volume reduction. Amend to: (1) add four Canadian suppliers to “Points of Origin”; and (2) include authorization for the use of containers that are reused, recycled, or decontaminated for free release to ship the Canadian waste to Diversified Scientific Services, Inc. Licensee is authorized to incinerate the materials imported at its Boiler Industrial Furnace and the resultant residue, in the form of solids. Non-conforming waste will be returned to Canada for final disposition in accordance with the applicable NRC export license XW008/04 | Canada

Dated this 1st day of February 2013 at Rockville, Maryland.
For the Nuclear Regulatory Commission.
Stephen Dembek,
Acting Director, Office of International Programs.

[FR Doc. 2013-03045 Filed 2-8-13; 8:45 am]

BILLING CODE 7590-01-P